FEDERAL COMMUNICATIONS COMMISSION

47 CFR Part 4

[PS Docket Nos. 21-346 and 15-80, ET Docket No. 04-35; DA 25-943; FR ID 319866]

Resilient Networks; Concerning Disruptions to Communications; Reopening of Comment Period

AGENCY: Federal Communications Commission.

ACTION: Proposed rule; reopening of comment period.

SUMMARY: On November 17, 2025, the Federal Communications Commission (Commission) extended the comment and reply comment periods of the Third Further Notice of Proposed Rulemaking (Third Further Notice) in PS Docket Nos. 21-346 and 15-80, ET Docket No. 04-35, FCC-25-45, that was released on August 6, 2025, and published in the Federal Register on September 2, 2025.

DATES: The reply comment period for the proposed rule published September 2, 2025, at 90 FR 42355, is reopened. Reply comments should be received on or before December 18, 2025.

ADDRESSES: You may submit comments, identified by PS Docket Nos. 21-346 and 15-80; ET Docket No. 04-35 by any of the following methods:

• Federal Communications Commission's Website: https://www.fcc.gov/ecfs. Follow the instructions for submitting comments.

• Mail: Parties who choose to file by paper must file an original and one copy of each filing. If more than one docket or rulemaking number appears in the caption of this proceeding, filers must submit two additional copies for each additional docket or rulemaking number. Filings can be sent by commercial overnight courier, or by first-class or overnight U.S. Postal Service mail. All filings must be addressed to the Commission's Secretary, Office of the Secretary, Federal Communications Commission. Commercial overnight mail (other than U.S. Postal Service Express Mail and Priority Mail) must be sent to 9050 Junction Drive, Annapolis Junction, MD 20701. U.S. Postal Service first-class, Express, and Priority mail must be addressed to 45 L Street NE, Washington, DC 20554.

• People with Disabilities: Contact the FCC to request reasonable accommodations (accessible format documents, sign language interpreters, CART, etc.) by email: FCC504@fcc.gov or phone: 202-418-0530.

For detailed instructions for submitting comments and additional information on the rulemaking process, see the SUPPLEMENTARY INFORMATION section of this document.

FOR FURTHER INFORMATION CONTACT: Jeanne Stockman, Attorney Advisor, Public Safety and Homeland Security Bureau at (202) 418-7830 or via email at Jeanne.Stockman@fcc.gov, or James Zigouris, Attorney Advisor, Public Safety and Homeland Security Bureau at (202) 418-0697 or James.Zigouris@fcc.gov.

SUPPLEMENTARY INFORMATION: This is a summary of the Commission's Public Notice (Public Notice), DA 25-943, released on November 17, 2025. The full text of this document is available by downloading the text from the Commission's website at: https://docs.fcc.gov/public/attachments/DA-25-943A1.pdf.

Synopsis

In the Public Notice, the Commission announced the extension of deadlines in response to resuming normal operations, including the deadlines for filing comments and reply comments in response to the Third Further Notice that was released on August 6, 2025.

On September 2, 2025, the Public Safety and Homeland Security Bureau (Bureau) announced comment and reply dates for the Third Further Notice, establishing that comments would be due on October 2, 2025, and reply comments would be due on November 3, 2025. In the Public Notice, the Commission extended the comment deadline for the Third Further Notice to November 18, 2025. Further, the Public Notice extends the deadline for reply comments to December 18, 2025.

Guidance for the deadlines in the other matters indicated in the Public Notice may be published separately in the Federal Register.

Federal Communications Commission.
Zenji Nakazawa,
Chief.

[FR Doc. 2025-21893 Filed 12-3-25; 8:45 am]

BILLING CODE 6712-01-P